DEPARTMENT OF ENERGY

Federal Energy Regulatory Commission

[Docket No. CP99-94-003]

Florida Gas Transmission Company; Notice of Application

November 9, 2000.

Take notice that on November 3, 2000, Florida Gas Transmission Company (FGT), 1400 Smith Street, P.O. Box 1188, Houston, Texas 77251-1188, filed in Docket No. CP99-94-003, pursuant to Section 7(c) of the Natural Gas Act (NGA) and Part 157 of the Federal Energy Regulatory Commission's (Commission) Regulations, to amend its certificate issued in Docket Nos. CP99-94-000 and -001 on February 28, 2000, to modify certain facilities located in Hillsborough County, Florida, all as more fully set forth in the application which is on file with the Commission and open to public inspection. This filing may be viewed at http://www.ferc.fed.us/online/rims.htm (call 202-208-2222 for assistance).

As part of the Phase IV Expansion FGT was authorized to construct the Tampa South Lateral Extension (5.62 miles of 4-inch line starting at the terminus of the existing Tampa South Lateral near mile post 16.5) and a measurement and regulation station, located at the end of the extension, to serve as a gas delivery point to National Gypsum Company (National Gypsum). By this amendment, FGT seeks authorization to: (1) Change the route of the Tampa South Lateral Extension by constructing approximately 6.18 miles of pipeline (starting at mile post 14.8 on the existing Tampa South Lateral); (2) change the pipe diameter by constructing the first 5.97 miles as 6-inch; and the last 0.21 miles as 8-inch pipeline; and (3) change the location of the regulation station to mile post 5.97 on the Tampa South Lateral Extension. The National Gypsum measurement station will not be relocated.

FGT explains that, as amended: (1) The new route for the Tampa South Lateral Extension will result in less of an impact to the environment; (2) the upsizing of the first 5.97 miles of pipeline to 6-inch diameter will accommodate future gas deliveries by FGT to Big Bend Transfer Company (Big Bend); and (3) relocating the construction of the regulation station to a site 0.21 miles upstream of the National Gypsum measurement station will, along with upsizing the last 0.21 miles of pipeline to 8-inch diameter, accomplish the reduction of delivery pressures to no higher than 25 psi, as requested by National Gypsum. FGT states that there will be no incremental construction costs passed on to FGT's customers because Big Bend and National Gypsum have agreed to reimburse FGT for all additional construction costs. FGT further states that the changes proposed will have no effect on the mainline capacity, the rates, or the market data as reflected in FGT's August 31, 1999, filing in its Phase IV certificate proceeding.

Questions regarding the details of this proposed project should be directed to Mr. Stephen T. Veatch, Director of Certificates and Regulatory Reporting, Suite 3997, 1400 Smith Street, Houston, Texas 77002 or call (713) 853-6549.

There are two ways to become involved in the Commission's review of this project. First, any person wishing to obtain legal status by becoming a party to the proceedings for this project should, on or before November 30, 2000, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments and protests may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

Linwood A. Watson, Jr.,
Acting Secretary.

[FR Doc. 00-29345 Filed 11-15-00; 8:45 am]

BILLING CODE 6717-01-M